DEPARTMENT OF COMMERCE

Bureau of the Census

[Docket Number: 071227905-81306-02]

American Indian Areas (AIAs) Program for the 2010 Census—Notice of Final Criteria and Guidelines

AGENCY: Bureau of the Census, Commerce.

ACTION: Notice of final criteria, guidelines, and program implementation.

SUMMARY: The Bureau of the Census (Census Bureau) is providing notification of final criteria and guidelines for American Indian Areas (AIAs) for the 2010 Census. Criteria are those rules and conditions that must be met when defining a geographic entity; guidelines are procedures and measures suggested by the Census Bureau to enhance the utility of statistical geographic areas for presentation and analysis of statistical data. AIAs are geographic entities within the United States defined for the collection, tabulation, and presentation of decennial census data for federally and/or state-recognized American Indian tribes. AIAs will be used to collect, tabulate, and present data for the 2010 Census, period estimates from the American Community Survey (ACS), and potentially other Census Bureau statistical data. More specifically, for the 2010 Census, AIAs consist of the following types of geographic entities:

• American Indian reservations (AIRs).

• Off-reservation trust lands (ORTLs).

• Oklahoma tribal statistical areas (OTSAs).

• Tribal-designated statistical areas (TDSAs).

• State-designated tribal statistical areas (SDTSAs).

• Tribal census tracts (tribal tracts).

• Tribal block groups.

• Tribal subdivisions on AIRs, ORTLs, and OTSAs.

• Census designated places (CDPs) on AIRs, ORTLs, and OTSAs.

The geographic entities listed above include both legal and statistical geographic entities (see “Definitions of Key Terms” section). The Census Bureau is not proposing any new types of AIAs for the 2010 Census. In these final criteria, the Census Bureau announces the following changes for the 2010 Census:

• Change the term “State-Designated American Indian Statistical Areas” (SDAISAs) to “State-Designated Tribal Statistical Areas” or SDTSAs.

• Clarify the definition and purpose of OTSAs. In addition, because all former AIRs in Oklahoma were delineated as OTSAs for Census 2000, the Census Bureau is providing notification that no new OTSAs may be delineated for the 2010 Census, and to the extent possible, OTSA boundaries for the 2010 Census should be consistent with those defined for Census 2000. The Census Bureau also seeks to avoid defining joint use area OTSAs for the 2010 Census.

• Clarify the definition, purpose, and the criteria and guidelines for TDSAs and SDTSAs.

• Identify tribal tracts and tribal block groups as separate statistical geographic entities distinct from, and in addition to, “standard” county-based census tracts and block groups.

The Census Bureau has three geographic partnership programs through which it collects updates to the inventory, boundaries, and attributes of AIAs for the 2010 Census: The annual Boundary and Annexation Survey (BAS), the State Reservation Program, and the Tribal Statistical Areas Program (TSAP). Both the BAS and the State Reservation Program provide the process for reviewing and updating those AIAs that are legal geographic entities: AIRs and ORTLs under the governmental authority of federally recognized American Indian tribes, tribal subdivisions within these federally recognized AIRs and ORTLs, and AIRs for state-recognized American Indian tribes. The TSAP provides the process for reviewing and updating those AIAs that are statistical geographic entities: OTSAs, tribal subdivisions within OTSAs, TDSAs, SDTSAs, tribal tracts, tribal block groups, and CDPs. Each of these programs is discussed in more detail within the SUPPLEMENTARY INFORMATION section of this Federal Register Notice.

This Notice announces the Census Bureau's final criteria and guidelines for AIAs for the 2010 Census. In addition, this Notice contains a summary of comments received in response to the April 1, 2008, Federal Register (73 FR 17303), as well as the Census Bureau's responses to these comments. The Census Bureau has considered all comments received regarding the new criteria and guidelines and will enact the proposed criteria and guidelines, unaltered from those presented in the Federal Register (73 FR 17303).

For information regarding similar programs for Alaska Native Areas (ANAs), please refer to the Federal Register Notice titled “Alaska Native Areas (ANAs) for the 2010 Census—Final Criteria and Guidelines”.

DATES: Effective Date: This Notice's final criteria and guidelines will be effective on November 14, 2008.

FOR FURTHER INFORMATION CONTACT: Requests for additional information on these criteria and guidelines should be directed to the Geographic Standards and Criteria Branch, Geography Division, U.S. Census Bureau, via e-mail at geo.tsap.list@census.gov, or telephone at 301-763-3056.

SUPPLEMENTARY INFORMATION: Pursuant to Title 13 of the United States Code (U.S.C.), Section 141(a), the Secretary of Commerce, as delegated to the Census Bureau, undertakes the decennial census every ten years “in such form and content as he may determine.” This language gives wide discretion to the Census Bureau in taking the census.

The Census Bureau portrays the boundaries of both legal and statistical geographic entities for the purpose of collecting, tabulating, and presenting meaningful, relevant, and reliable statistical data from the decennial census, the ACS, and potentially other censuses and surveys. The Census Bureau attempts to develop objective criteria to establish geographic entities that meet this purpose.

Although the Census Bureau is committed to delineating geographic entity boundaries in partnership with tribal, state, and local officials using criteria developed through an open process, it is the responsibility of the Census Bureau to ensure that geographic entity criteria can achieve the goal of providing meaningful, relevant, and reliable statistical data, and that the final criteria for geographic entities are met. While aware that there are secondary uses of geographic entities and the data tabulated for them, the Census Bureau will not modify geographic entity boundaries or attributes specifically to meet these secondary uses, including any attempt to meet the specific program requirements of other government agencies. If a change is made to a geographic entity to meet one specific purpose, there may be detrimental effects for other programs that use the same geographic entities. The Census Bureau also makes no attempt to specifically link the establishment of statistical geographic entities to federal, tribal, or state laws.

The development of the AIAs has been an evolutionary process. The variety of legal, cultural, and social contexts in which American Indian tribes reside creates challenges to the development of geographic entities for nationwide implementation. There are both federally recognized and state-recognized tribes, and each has a particular history and legal context affecting identification of geographic entities and boundaries. Some tribes have legally established AIRs and/or ORTLs. Others do not have geographic entities that are currently recognized under federal and/or state law, but do reside and conduct tribal activities within a clearly defined, compact geographic area.

I. History of American Indian Areas in the Decennial Census

The first constitutionally mandated population census in the United States was conducted in 1790. During the period 1790 through 1850, American Indians were enumerated during the decennial censuses only if living among the general population. It was not until 1860 that American Indians living on tribal lands in the western half of the United States were enumerated as a unique population group, but tabulations were not made available for tribal territories or geographic entities. An effort was made for the 1880 Census to enumerate and present data for American Indians living on specific, federally recognized AIRs, but this effort was not completed, and data were available only for tribes in the state of California, as well as parts of Dakota Territory and Washington Territory. The 1890 Census was the first in which American Indian data were collected and presented for individual AIRs, including the now-former AIRs in Indian Territory (now part of Oklahoma); this practice continued through the 1910 Census. American Indian geographic entities were not recognized for the 1920 through 1960 censuses; thus, while American Indians were identified and enumerated, data were not available for the AIRs in which many lived. This decision was reversed with the 1970 Census for which the Census Bureau presented data for 115 AIRs. Still, there was no systematic program for the collection and reporting of all AIR boundaries.

The Census Bureau began to report data systematically for a variety of AIAs starting with the 1980 Census, when it identified and presented data for a more complete inventory of AIRs. The Census Bureau worked with the Bureau of Indian Affairs (BIA) within the U.S. Department of the Interior (DOI) to identify boundaries for AIRs for federally recognized tribes, and with state government officials to identify boundaries for AIRs for state-recognized tribes, by obtaining maps depicting their legally established boundaries. Tribal ORTLs and American Indian sub-reservation areas (the latter now called tribal subdivisions) were both identified for the first time as geographic entities for the decennial census. To provide data for federally recognized tribes in Oklahoma that formerly had AIRs, the Census Bureau identified a single geographic entity called the Historic Areas of Oklahoma.

The American Indian geographic programs implemented for the 1980 Census were continued with some improvements and additions for the 1990 Census. The Census Bureau began collecting boundaries and reporting data for individual ORTLs (i.e., allotments) in addition to tribal ORTLs, as long as the lands were under a tribe or tribes' governmental authority, or were clearly identified with a particular tribe, tribal government, and/or AIR. The Census Bureau introduced the Tribal Review Program prior to the 1990 Census, which gave the affected federally recognized tribes the opportunity to review, and update if needed, the boundaries of their AIRs and/or ORTLs. The Census Bureau also replaced the single entity Historic Areas of Oklahoma with tribal jurisdiction statistical areas (TJSAs—now called OTSAs) whose boundaries were intended to correspond with those of the individual former AIRs in Oklahoma. In addition, as part of the continuing effort to improve the presentation of data for American Indians, the Census Bureau adopted the TDSA concept to identify lands associated with federally or state-recognized tribes that did not have an AIR or ORTL. American Indian sub-reservation areas (now called tribal subdivisions) were not defined for the 1990 Census. The Census Bureau also offered tribal officials with an AIR and/or ORTL the opportunity to provide suggestions for 1990 Census tabulation block boundaries on their AIR and ORTL through the Block Definition Project (BDP), similar to the Block Boundary Suggestion Project portion of the Redistricting Data Program.

In preparation for Census 2000, the Census Bureau continued to work with tribal governments and federal and state agencies, as well as the Census Race and Ethnic Advisory Committee (REAC) of the American Indian and Alaska Native (AIAN) populations (referred to hereafter as AIAN REAC), to improve the identification of AIAs. For federally recognized tribes, the Census Bureau offered programs to collect updated AIR and ORTL boundaries directly from the tribal governments using the 1990 Census boundaries as a baseline. The Tribal Review Program was offered a second time in 1997 and again enabled officials of all federally recognized American Indian tribes with an AIR or ORTL to review and, if necessary, update the Census Bureau's maps of their AIRs and/or ORTLs before Census 2000. The Tribal Review Program also included updating and correcting the roads and other geographic features shown on the Census Bureau's maps, and providing suggestions for Census 2000 block boundaries in the BDP. The Tribal Review Program, prior to Census 2000, also gave tribes in Oklahoma the opportunity to review the delineation of their 1990 Census TJSAs. Census 2000 was the first decennial census for which census tracts were defined throughout the United States. American Indian tribes benefited from this change as the Census Bureau allowed tribal governments of federally recognized American Indian tribes with an AIR or ORTL to delineate census tracts without regard to state or county boundaries, provided the AIR/ORTL had a 1990 Census population of at least 1,000.

Beginning in 1998, the Census Bureau included federally recognized American Indian tribes with an AIR and/or ORTL in its annual BAS, thus replacing the once a decade Tribal Review Program. All AIRs and ORTLs included in the 2000 BAS were also included in the Census 2000 Boundary Validation Program (BVP). The BVP offered a final opportunity for tribal leaders to review the Census Bureau's depiction of their AIR/ORTL boundaries prior to Census 2000 and provide any updates to ensure those boundaries were shown correctly as of January 1, 2000 (the reference date of the boundaries used for Census 2000 data tabulations). To support tribal requests for data by administrative subdivisions, the Census Bureau again offered tribal officials the opportunity to delineate American Indian tribal subdivisions (similar to the 1980 Census sub-reservation areas).

For Census 2000, on the recommendation of the AIAN REAC, the Census Bureau adopted the state-designated American Indian statistical area (SDAISA) to represent geographic areas for state-designated tribes that lacked AIRs and ORTLs, thus distinguishing these areas from TDSAs, which continued to represent geographic areas associated with federally recognized tribes that lacked AIRs and ORTLs. The designation TJSA was changed to OTSA to more accurately reflect that these entities were defined solely to present statistical information, and did not represent areas in which legal jurisdiction was conferred or inferred by the federal government.

The 2010 Census provides an opportunity to further enhance the Census Bureau's ability to provide meaningful, statistically relevant data about federal and state-recognized tribes. Two statistical entities, tribal tracts and tribal block groups, will be redefined to provide federally recognized tribes with AIRs greater control and flexibility in delineating such areas. The final criteria and guidelines for TDSAs and SDTSAs (formerly known as SDAISAs) encourage tribes without an AIR and/or ORTL to delineate geographic areas that more effectively present the important data for their populations. SDAISAs have been renamed to SDTSAs to create a more consistent naming convention for Census Bureau tribal entities. SDTSAs, TDSAs, OTSAs, tribal subdivisions defined within OTSAs, tribal block groups, and tribal tracts are referred to collectively as “tribal statistical areas” as they are not legally defined geographic entities. These entities are included in the new TSAP, a more inclusive term to refer to the delineation process for all the tribal statistical areas for the decennial census. This program facilitates the definition and delineation of tribal statistical areas, and enhances the ability of tribes to acquire meaningful data about their tribal members.

II. Federal and State Recognition of American Indian Tribes

For an American Indian tribe to delineate an AIA for the 2010 Census, they first must be either federally recognized or state-recognized. Federal recognition of an American Indian tribe for the purpose of these criteria and guidelines specifically means that the tribe is recognized by and eligible to receive services from the BIA.

BIA recognition is determined by inclusion of a tribe on the BIA's list of recognized tribes ¹ or by addenda to the list as published by the BIA. The list of eligible American Indian tribes will change if new tribes are recognized by the BIA on or before January 1, 2010.

¹ Published regularly in the Federal Register pursuant to the Federally Recognized Indian Tribe Act of 1994 (Pub. L. 103-454; 25 U.S.C. 479a-1). Last published in the Federal Register on Friday, April 4, 2008, (73 FR 18553).

Whereas, there is a single source for determining which American Indian tribes are federally recognized state recognition of a tribe is not always clear. Prior to the decennial census and before implementing either the State Reservation Program or TSAP, the Census Bureau sends letters to each state requesting a list of any state-recognized tribes that are not also federally recognized, and requests the appointment of a liaison by each state governor to work with the state-recognized tribes and the Census Bureau on these geographic programs. State recognition of a tribe is determined by each respective state government, and conveyed to the Census Bureau by the governor's appointed liaison. The Census Bureau will work with the state liaison to ascertain a tribe's status if contacted directly by a tribe claiming state recognition, but not included on the state's list of recognized tribes. The Census Bureau will provide a list of state-recognized tribes within each state based on information obtained from each state's liaison. The list of eligible state-recognized tribes for each individual state will change if new tribes are recognized and reported to the Census Bureau by that state's liaison on or before January 1, 2010.

III. Summary of Comments Received in Response to the Proposed Criteria for American Indian Areas (AIAs) for the 2010 Census

The April 1, 2008, Federal Register (73 FR 17303) requested comment on the proposed criteria and guidelines for identification of AIAs for the 2010 Census, which contained the following changes to the criteria and guidelines used in the 2000 Census: (1) Change the term “State-Designated American Indian Statistical Areas” (SDAISAs) to “State-Designated Tribal Statistical Areas” or SDTSAs; (2) clarify the definition and purpose of OTSAs; to not allow delineation of new OTSAs; and to avoid defining joint use OTSAs for the 2010 Census; (3) clarify the definition, purpose, and the criteria and guidelines for defining TDSAs and SDTSAs; and (4) identify tribal tracts and tribal block groups as separate statistical geographic entities distinct from, and in addition to, “standard” county-based census tracts and block groups.

The Census Bureau received comments from sixteen organizations and individuals on the proposed criteria, all pertaining to the proposal to define tribal tracts and tribal block groups as a geographic framework completely separate from standard census tracts and standard block groups. All comments received are summarized below, as well as the Census Bureau's responses to these comments.

The Census Bureau received thirteen comments favoring identification of tribal tracts and tribal block groups as a geographic framework completely separate from standard census tracts and standard block groups. The commenters stated that distinct tribal tracts and tribal blocks will improve the meaningfulness and relevance of statistical data for American Indian communities within federally recognized AIRs. Given the support for the proposal to define tribal tracts and tribal block groups as a geographic framework separate from, and in addition to, standard census tracts and block groups, the Census Bureau will retain the concept in the final criteria and guidelines for the 2010 Census.

These thirteen commenters also noted that identification of tribal tracts and tribal block groups as a separate geographic framework will provide more accurate income data for American Indian populations, which would potentially increase Qualifying Census Tract designation for the U.S. Department of Housing and Urban Development's Low Income Housing Tax Credit Program. Although aware that there are secondary uses of geographic entities and the data tabulated for them, the Census Bureau did not propose this change specifically to meet secondary uses, nor was there any intent to modify criteria or guidelines to meet specific program requirements of any other government agencies. The Census Bureau, however, will attempt to inform other agencies of the decision to identify tribal tracts and tribal block groups as a separate geographic framework for tabulation and presentation of statistical data for communities within AIRs and/or ORTLs.

Three commenters erroneously stated that the identification of tribal tracts and tribal block groups would result in duplication of population counts for communities within AIRs, and would result in the misrepresentation of statistical data and demographic characteristics for these communities. Two of these commenters also expressed concern that separate tribal tracts would lead to unnecessary spending of federal taxpayer dollars. Enumeration and data collection activities and processes are distinct from data tabulation and presentation processes, and are designed to collect data only once from individual households. Those households may reside in a variety of distinct and sometimes overlapping geographic entities, such as county subdivisions, places, counties, urban areas, and school districts. The Census Bureau routinely presents data for a wide variety of geographic entities without duplicating data for particular households or communities. With regard to the comment pertaining to unnecessary spending of federal taxpayer dollars, the Census Bureau's identification and maintenance of tribal tracts and tribal block groups as a separate geographic framework is consistent with its mission to provide statistical data for geographic entities that allow for meaningful analysis of demographic characteristics. The Census Bureau, however, does not comment on whether another agency's use of geographic areas defined for statistical purposes constitutes an appropriate use of funds.

Changes to Proposed Criteria and Guidelines for American Indian Areas (AIAs) for the 2010 Census

Changes made to the final criteria (from the proposed criteria) in “Section V, American Indian Areas for the 2010 Census—Geographic Programs and Statistical Geographic Entities” are as follows:

1. Section V.A.1, “Final OTSA Criteria,” changed the criterion stating that OTSAs must follow the last legal boundaries for the former AIR to a guideline. We made this change to recognize that the Census 2000 boundaries for some individual OTSAs may not necessarily follow the last legal boundary of the former AIR, and that in some instances it may not be possible for a 2010 Census OTSA boundary to follow the last legal former AIR boundary.

2. Section V.A.1, “Final OTSA Guidelines,” added the guideline that tribes should strive to avoid defining OTSAs with overlapping boundaries, which result in the identification of joint use area OTSAs. This is consistent with the statement made earlier in the OTSA section that the Census Bureau seeks to avoid identification of joint use area OTSAs for the 2010 Census.

3. Section V.A.2, “Tribal-Designated Statistical Areas (TDSAs) and State-Designated Tribal Statistical Areas (SDTSAs),” added text at the end of the fifth paragraph clarifying the importance of striking an appropriate balance between TDSA and SDTSA definitions that are too small to obtain meaning statistical data, and those that are so large that data for the American Indian population are masked by the presence of a large number of non-American Indian households.

4. Section V.B, Final Criteria and Guidelines for Tribal Census Tracts and Tribal Block Groups for the 2010 Census,” added text in the sixth paragraph clarifying that the determination of eligibility to define multiple tribal tracts and multiple tribal block groups within a federally recognized American Indian reservation will be based on total population or total number of housing units.

IV. American Indian Areas for the 2010 Census—Geographic Programs and Legal Geographic Entities

The Census Bureau collects, tabulates, and presents statistical data for four types of AIAs with current legally established boundaries: AIRs for federally recognized American Indian tribes (federal AIRs); ORTLs for federally recognized American Indian tribes; tribal subdivisions on federal AIRs and ORTLs; and AIRs for state-recognized American Indian tribes (state AIRs). The annual BAS is the Census Bureau's mechanism for collecting updates to the boundaries of federal AIRs and ORTLs, and the inventory and boundaries of tribal subdivisions. More details on the BAS can be found in Section IV.A below. The State Reservation Program is the mechanism through which the Census Bureau collects updates to the inventory and boundaries of state AIRs. State AIRs may not include territory within federal AIRs or ORTLs.

The Census Bureau will tabulate 2010 Census data for all AIRs, ORTLs, and tribal subdivisions that exist as of January 1, 2010, with boundaries as of that date, if they have been reported to the Census Bureau. After the 2010 Census, the Census Bureau will continue to update the inventory and boundaries of federal AIRs, ORTLs, and their tribal subdivisions on an annual basis through the BAS to support collection, tabulation, and presentation of data from the ACS and potentially other Census Bureau censuses and surveys. State AIRs currently are updated only once prior to each decennial census.

A. Boundary and Annexation Survey (BAS)

The BAS is an annual Census Bureau survey of legal geographic entities that includes federal AIRs, ORTLs, and any associated tribal subdivisions. Its purpose is to determine, solely for data collection and tabulation by the Census Bureau, the complete and current inventory and the correct names, legal descriptions, official status, and official, legal boundaries of the legal geographic entities with governmental authority over certain areas within the United States, as of January 1 of the survey year. The BAS also collects specific information to document the legal actions that established a boundary or imposed a boundary change. In support of the government-to-government relationship with federally recognized American Indian tribes, the Census Bureau works directly with tribal officials. All issues that relate to treaty interpretation or legal actions that are disputed by an adjacent or enclosed governmental unit as part of the BAS are referred to the DOI Office of the Solicitor and/or the BIA for an official opinion. Through the BAS, the Census Bureau also accepts updates to features such as roads or rivers, and address range break information at the boundaries.

For more information about the BAS, see the Census Bureau's Web site at http://www.census.gov/geo/www/bas/bashome.html.

The BAS User's Guide for federally recognized tribes is available at http://www.census.gov/geo/www/bas/bas08/bas08_rg_paper_trib.pdf.

Federal AIRs, ORTLs, and tribal subdivisions within them may be delineated without regard to state or county boundaries.

Federal American Indian Reservations

AIRs represent geographic areas governed and administered by an American Indian tribe or tribes, and held as territory over which the tribe or tribes have governmental authority. Federal AIRs and their legal boundaries are established through final tribal treaty, agreement, Executive Order, federal statute (including 25 U.S.C., 467), Secretarial Order, and/or judicial determination. AIR status of land does not necessarily correspond to ownership or occupancy by American Indians; land does not have to be held in trust before it may be declared as an AIR, or land may lose trust status, but still retain AIR status. The Census Bureau solicits changes to the boundaries of federal AIRs directly from the tribes through the annual BAS. Acceptance of boundary changes requires clear legal documentation supporting any and all changes, as well as the absence of any unresolved litigation involving these boundaries. Any changes to federal AIR boundaries that are not clearly documented require legal interpretation of documentation, and/or are based on legal documentation from before 1990, are referred to the DOI Office of the Solicitor and/or the BIA for an official opinion. Any changes to the inventory of federal AIRs also require clear, supporting legal documentation. Corrections to the name of each federal AIR are also solicited from each tribal government through the BAS.

Off-Reservation Trust Lands

Unlike AIR status, the trust status of land directly corresponds to American Indian ownership, and to date only applies to federally recognized tribes. American Indian trust lands are parcels of land for which the United States holds the title in trust for the benefit of a tribe or specific group of tribes (tribal trust land) or for an individual tribal member or family (individual trust land). A tribe extends its primary governmental authority over a parcel of land when it is placed in trust for that tribe or an individual member of that tribe. Land is taken into trust pursuant to a specific federal law, usually 25 U.S.C., 465, and/or 25 Code of Federal Regulations, Part 151. Individual trust land, also known outside the Census Bureau as allotments, must clearly be associated with one specific AIR and/or currently federally recognized tribe for the Census Bureau to specifically identify and tabulate data for it.

Trust lands always are associated with a specific federally recognized tribe and usually with a particular AIR. Trust lands may be located on or off an AIR. The Census Bureau tabulates data separately for AIRs and for ORTLs because the tribe has governmental authority over these lands. Tribal governmental authority generally is not attached to lands located off an AIR until the lands are placed in trust. All on-reservation trust land is included within the larger geographic entity of the AIR, and the Census Bureau does not specifically distinguish or tabulate data for on-reservation trust land. For the Census Bureau to map or specifically tabulate data for ORTLs, the Census Bureau requires either a copy of the deed clearly placing the land in trust with the federal government for a tribe or individual American Indian, or recent documentation from BIA or DOI indicating that the land is held in trust. The Census Bureau does not identify or tabulate data specifically for any other types of American Indian owned lands located on or off of an AIR, including restricted fee land or fee simple land. The specific compilation of land ownership information is not within the mission of the Census Bureau. The Census Bureau collects the boundaries of ORTLs only where the surface estate is held in trust, and does not collect the boundaries of parcels of land for which only the subsurface estate has been placed in trust. The Census Bureau does not collect the boundaries for, or specifically tabulate data for ORTLs, for tribes in either Alaska or Oklahoma.

The ORTL name used for Census Bureau products will correspond with the name of the AIR with which it is associated or, if there is no associated AIR, with the name of the tribe for which the land is held in trust. Individual ORTLs will also use the name of either the associated AIR or the individual member's federally recognized tribe. The Census Bureau will not depict the name of any individual or family owning or associated with any ORTL.

Tribal Subdivisions

Tribal subdivisions are units of self-government and/or administration within an AIR and/or ORTL for a federally recognized tribe or an OTSA, that serve social, cultural, and/or legal purposes for the tribal government. Tribal subdivisions delineated within an AIR or ORTL are considered “legal geographic entities” by the Census Bureau and, thus, are specifically termed “legal tribal subdivisions” and are delineated or updated through the annual BAS. Legal tribal subdivisions are further distinguished as being either an active government, defined as a functioning government with elected officials that provides governmental services for only that area, or inactive, defined as having no functioning government of its own and is used only for administrative purposes and/or the election of representatives to a tribal-wide government.

Tribal subdivisions delineated within OTSAs are considered “statistical geographic entities” by the Census Bureau and are specifically termed “statistical tribal subdivisions” because the larger OTSA is also considered a statistical geographic entity. They are delineated or updated with the OTSAs through the TSAP. Tribal subdivisions are intended to completely cover all of an AIR and/or ORTL, or OTSA, or at least the major contiguous portion thereof. Separate, discrete communities whose boundaries encompass a concentration of population and housing should be defined as CDPs rather than as tribal subdivisions.

The Census Bureau tabulates data for only one level of tribal subdivision within an AIR, ORTL, or OTSA. Tribes that have multiple hierarchical levels of administrative units covering the same area should consider submitting the lowest level—those with the smallest geographic area—so that their data can be aggregated for the larger geographic areas. If an AIR, ORTL, or OTSA consists of multiple, noncontiguous parts, the tribal subdivisions within them will be noncontiguous. The Census Bureau will identify each tribal subdivision in its data products with the name and administrative unit type (chapter, district, etc.) submitted by the tribal government providing the boundary for the geographic area. The name of each tribal subdivision must reflect its name, as cited in recent legal documentation and/or used by the tribal government, for administrative purposes.

B. State Reservation Program

The State Reservation Program occurs once before each decennial census, and is a survey of state AIRs for those states with state-recognized tribes that are not also federally recognized. Its purpose is to determine, solely for data collection and tabulation by the Census Bureau, the complete and current inventory and the correct attributes (names, legal descriptions, official status) and official, legal boundaries of the state AIRs in each state. Through the State Reservation Program, the Census Bureau also accepts additions and updates to features such as roads or rivers on or near the state AIR, as well as address range break information at the boundaries.

The Census Bureau requests that the governor for each affected state appoint a liaison to work with officials of state-recognized tribes to review the boundaries and other attributes of any currently existing state AIRs and, if applicable, provide the boundaries and other attributes for any new state AIRs. As part of the State Reservation Program, the Census Bureau will provide spatial data for state AIRs for use when reviewing the accuracy of any AIR boundary delineated for a previous decennial census or for delineating any new state AIRs. Acceptance of boundary changes to state AIRs requires clear legal documentation supporting any, and all, changes involving these boundaries.

The Census Bureau will identify each state AIR with the name submitted by the state liaison providing the boundary for the area. The state AIR name should reflect the specific name cited in the legal records establishing the state AIR. The liaison also works on the TSAP with any state-recognized tribes that do not have state AIRs to determine if and how they should delineate a SDTSA for the 2010 Census (see Section V.A.2.).

State American Indian Reservations

State AIRs and their legal boundaries are established pursuant to state law. States with state-recognized tribes that are not also federally recognized each have their own unique laws that recognize specific tribes or establish a formal process by which tribes apply for state recognition. A subset of states also have a process whereby state-recognized tribes may obtain a state AIR; have established a state AIR, specifically through state legislation; or have continued to recognize under state law an AIR established through laws, often treaties, of one of the original thirteen colonial assemblies and/or Great Britain during the Colonial Era.

The Census Bureau solicits changes to the boundaries of state AIRs from the state government through the State Reservation Program. By definition, state AIR boundaries cannot cross state lines unless the AIR and tribe is separately recognized in each state. State AIRs may not include territory within federally recognized AIRs or ORTLs.

V. American Indian Areas for the 2010 Census—Geographic Programs and Statistical Geographic Entities

The Census Bureau has developed a variety of American Indian statistical geographic entities for those federally and state-recognized tribes that do not have an AIR or ORTL. Their shared purpose is to provide a meaningful and relevant geographic framework for tabulating data from the 2010 Census, the ACS, and potentially other Census Bureau censuses and surveys that is comparable to the AIRs and ORTLs for tribes of similar size within the same state and/or region. Representation of statistical AIA boundaries in Census Bureau products is solely for the purpose of data tabulation and presentation, and does not convey or confer any rights to land ownership, governmental authority, or jurisdictional status. The TSAP is the mechanism for the 2010 Census through which the Census Bureau works with tribal governments to delineate the boundaries and other attribute information of the various American Indian statistical geographic entities. The TSAP is only offered once prior to each decennial census.

Tribal tracts, tribal block groups, and CDPs also are statistical geographic entities defined as part of the TSAP. Criteria for these statistical geographic entities are provided in sections V.B. and V.C. below. Throughout the following section, the term “statistical AIA” refers to OTSAs, tribal subdivisions within OTSAs, TDSAs, and SDTSAs.

A. Final Criteria and Guidelines for Statistical AIAs (OTSAs, TDSAs, and SDTSAs) for the 2010 Census

The Census Bureau has received comments from data users and tribal officials over the past 20 or more years regarding the purpose of statistical AIAs (OTSAs, TDSAs, and SDTSAs) and how they should be defined to facilitate tabulation and presentation of meaningful data. In response, the Census Bureau announces the following criteria and guidelines to help ensure that the statistical AIAs delineated for the 2010 Census and beyond support their intended purpose, provide useful and meaningful data for the respective tribe, and enhance the ability for data users to make meaningful comparisons between data for the various types of AIAs. Criteria are rules that must be followed by all officials delineating statistical AIAs for the 2010 Census, while guidelines are suggestions for improving the relevance and utility of statistical AIAs.

The following criteria apply to all statistical AIAs (OTSAs, TDSAs, and SDTSAs) delineated for the 2010 Census. Criteria and guidelines specific to the individual type of statistical AIA are provided in their respective sections below.

1. A statistical AIA must contain some American Indian population and housing.

2. A statistical AIA may not overlap with any other AIA at the same level of the geographic hierarchy. For example, an OTSA may not overlap an AIR; a TDSA may not overlap an AIR; a SDTSA may not overlap a TDSA.

3. A statistical AIA may not completely surround another legal or statistical AIA at the same level of the geographic hierarchy.

4. A statistical AIA may not include more water area than land area.

5. Officials delineating statistical AIAs may only add nonvisible lines as a boundary only if other acceptable boundary features are not available and they aid in a statistical AIA meeting other specific delineation criteria and/or guidelines.

6. The Census Bureau will evaluate the submitted name to ensure that each statistical AIA's name is clearly distinguishable from the name of any other legal or statistical AIA.

1. Oklahoma Tribal Statistical Areas (OTSAs)

OTSAs are statistical AIAs identified and delineated by the Census Bureau with federally recognized tribes based in Oklahoma that had a former AIR in Oklahoma. OTSAs are intended to represent the former AIRs that existed in the Indian and Oklahoma territories prior to Oklahoma statehood in 1907, to provide comparable geographic entities for analyzing data over time, and to provide a way to obtain data comparable to that provided to federally recognized tribes that currently have an AIR. Because all former AIRs in Oklahoma were delineated for Census 2000, no new OTSAs may be delineated for the 2010 Census. Federally recognized tribes with an OTSA and those without may have ORTLs. A tribe may choose to have the Census Bureau tabulate data for its ORTL for the 2010 Census rather than for an OTSA, if the tribe can supply an acceptable Geographic Information System (GIS) file or map(s) and the required supporting legal documentation. If a tribe chooses to submit their ORTL to the Census Bureau, the tribe's ORTL will become part of the annual BAS (see the sections on the “Boundary and Annexation Survey” and “Off-Reservation Trust Land” above).

For previous censuses, the Census Bureau allowed the boundaries of OTSAs to deviate somewhat from the corresponding former AIR boundaries when requested by a tribe and supported by available demographic data. Such deviations may affect the delineation and identification of other tribes' OTSAs, resulting in areas being associated with multiple OTSAs. These areas with multiple relationships were defined as separate geographic entities and identified as “joint use area OTSAs” for Census 2000. In response to comments received from data users, especially with regard to federal laws and programs requiring the use of the former AIR boundaries rather than OTSA boundaries, the Census Bureau seeks to avoid identification of joint use area OTSAs for the 2010 Census. The Census Bureau will not create any new joint use area OTSAs for the 2010 Census and will work with the tribes involved to eliminate those that existed for Census 2000. Four joint use area OTSAs were created for Census 2000: Kiowa-Comanche-Apache-Ft. Sill Apache-Caddo-Wichita-Delaware; Creek-Seminole; Kaw-Ponca; and Miami-Peoria.

Final OTSA Criteria:

1. OTSAs must be located completely within the current boundaries of the State of Oklahoma.

2. The name for each OTSA is determined by the tribe or tribes (in conjunction with the Census Bureau) that are responsible for delineating each OTSA. The Census Bureau shall revise any name submitted for a geographic entity if it is determined that the criteria listed below were not applied properly. The name of an OTSA must reflect one or more of the following conditions:

a. The tribe or tribes associated with the former AIR represented by the OTSA;

b. Tribes that have historically resided within the area of the OTSA;

c. Tribes that have significant population currently residing within the OTSA; and/or

d. The name(s) of the tribe(s) commonly associated with the area encompassed by the OTSA.

Final OTSA Guidelines:

1. To the extent possible, OTSA boundaries identified for the 2010 Census should be the same as those delineated for Census 2000.

2. OTSAs should follow the last legal boundaries established for their former AIR.

3. Tribes should strive to eliminate overlapping OTSA boundaries that resulted in the Census 2000 joint use area OTSAs.

4. Tribes may delineate tribal subdivisions within their own OTSAs.

5. Tribes may delineate CDPs representing unincorporated communities located within their own OTSAs (see section V.C. below).

2. Tribal-Designated Statistical Areas (TDSAs) and State-Designated Tribal Statistical Areas (SDTSAs)

TDSAs are statistical AIAs identified and delineated by the Census Bureau with federally recognized tribes that do not have an AIR or ORTL, and are based outside of Alaska, Hawaii, and Oklahoma. SDTSAs are conceptually similar to TDSAs but defined for state-recognized tribes that are not also federally recognized. A TDSA may cross state lines. A SDTSA, however, is limited to the state in which the respective tribe is officially recognized. For example, if the area with which a tribe is associated is located in two states, the tribe must be officially recognized by each state in order for the tribe's SDTSA to be delineated in each of those states.

The primary purpose for delineating either a TDSA or a SDTSA is to obtain meaningful statistical data for a recognized tribe within a specific geographic area encompassing a substantial concentration of tribal members. Both TDSAs and SDTSAs are intended to provide comparable geographic entities for analyzing data over time and to provide a way to obtain data comparable to that provided for tribes of a similar size that have AIRs or ORTLs in the same state and/or region. The definition of a TDSA or SDTSA may not necessarily include all tribal members; nor is it intended to depict land ownership, represent an area over which a tribe has any form of governmental authority or jurisdiction, or represent all of the traditional or historical areas associated with the tribe, including areas used for subsistence activities. Representation of TDSA and SDTSA boundaries in Census Bureau products is solely for the purpose of data tabulation and presentation, and does not convey or confer any rights to land ownership, governmental authority, or jurisdictional status.

TDSAs and SDTSAs will be used to tabulate and present data from both the 2010 Census, as well as to tabulate and present period estimates from the ACS. Thus, if a TDSA or SDTSA has a small amount and/or proportion of American Indian population, the quality, reliability, and availability of data, particularly ACS period estimates, may be adversely affected for that area.

Defining officials should take into consideration that tribal affiliation data, as collected by the Census Bureau, are generally not released for geographic entities that have small amounts of population, including TDSAs and SDTSAs, due to data disclosure concerns. TDSAs and SDTSAs enable meaningful demographic and housing data to be tabulated for a specific population and geographic area. If a TDSA or SDTSA is defined in accordance with the final program criteria and guidelines, data tabulated for the TDSA or SDTSA may provide an alternative to tribal affiliation data for a specific, small geographic area. Tribal affiliation data are available for larger geographic entities, such as whole states or the entire United States.

Since TDSAs and SDTSAs also will be used to tabulate and present period estimates from the ACS, defining officials also should consider that, as a general rule, period estimates of demographic characteristics for geographic entities with small populations will be subject to higher variances than comparable estimates for geographic entities with larger populations. In addition, the Census Bureau's disclosure rules may have the effect of restricting the availability and amount of data for geographic entities with small populations. The more closely a TDSA or SDTSA boundary relates to the distribution of tribal members and American Indians receiving governmental services from the tribe, and does not include large numbers of people and households not affiliated with the tribe, the more likely that data presented for the TDSA or SDTSA will accurately reflect the characteristics of the intended tribal population. Therefore, when delineating TDSAs or SDTSAs, it is important to strike an appropriate balance; avoiding a definition that is too small to obtain meaningful sample data, and one that is so large that data for the American Indian population are masked by the presence of a high percentage of non-American Indian households. The Census Bureau took these concerns into consideration when developing the delineation criteria and guidelines below.

Although eligible, officials may elect not to delineate a TDSA or SDTSA if it will not provide meaningful, relevant, or reliable statistical data because the member population now resides in numerous other locations or has been largely subsumed by non-member and/or non-American Indian populations. In such instances, defining a TDSA or SDTSA will not improve the presentation of statistical data relating to tribal members. These tribes may still be able to receive meaningful, relevant, and reliable statistical data for their tribal membership at higher levels of census geography, such as through the characteristic of tribal affiliation, but a geographic solution to their data issues, such as a TDSA or SDTSA, may not be possible.

In response to comments from data users since the 1990 Census, regarding the purpose of statistical AIAs, and best practices to follow when defining a statistical geographic entity to obtain meaningful data, the Census Bureau announces the following criteria and guidelines to help ensure that the TDSAs and SDTSAs that are delineated for the 2010 Census meet their definition, support the intended purpose of the program, provide useful, relevant, and meaningful data for the tribe they represent, and enhance the ability for data users to make more meaningful comparisons between data for both legal and statistical AIAs.

Final TDSA and SDTSA Criteria:

1. TDSAs and SDTSAs shall not include military areas.

2. TDSAs shall not be delineated in Hawaii or Oklahoma.

3. TDSAs shall no longer be recognized or delineated in Alaska because all federally recognized tribes in Alaska, without an AIR, may now consider defining Alaska Native village statistical areas.

4. A SDTSA for a specific tribe may be delineated in a state only if the tribe is officially recognized by the state.

5. The name for each TDSA or SDTSA is determined by the tribe or tribes (in conjunction with the Census Bureau, and the state liaison for SDTSAs) that are responsible for its delineation. The name of a TDSA or SDTSA must reflect one or both of the following conditions:

a. The tribe that has the largest population currently residing within the TDSA or SDTSA; and/or

b. The name of the tribe most commonly associated with the area encompassed by the TDSA or SDTSA.

Final TDSA and SDTSA Guidelines:

1. TDSAs and SDTSAs should be comparable in area to the AIRs and/or ORTLs of other tribes with similar numbers of members in the same state and/or region.

2. American Indians should constitute a substantial proportion of the population within a TDSA or SDTSA, and of the American Indian population, the majority should be members of the delineating tribe.

3. A minimum population of at least 1,200 individuals or 480 housing units is suggested to help enhance reliability and availability of sample-based data.

4. TDSAs and SDTSAs should include an area where there is structured and organized tribal activity, including tribal headquarters, tribal service centers, meeting areas and buildings, ceremonial grounds, tribally owned businesses, etc.

5. TDSAs and SDTSAs should not contain large areas without housing or population. A housing unit density of at least three housing units per square mile is suggested.

6. TDSAs and SDTSAs should be contiguous.

7. Water area should be included only to maintain contiguity, to provide a generalized version of the shoreline, or if the water area is completely surrounded by land area included in the TDSA or SDTSA.

8. TDSA and SDTSA boundaries should follow visible, physical features, such as rivers, streams, shorelines, roads, and ridgelines.

9. TDSA and SDTSA boundaries may follow the nonvisible, legally defined boundaries of AIRs, ORTLs, states, counties, or incorporated places.

3. OTSA, TDSA, and SDTSA Review Process

As with all of the Census Bureau's statistical geographic entities, the Census Bureau reserves the right to modify, create, or reject any boundary or attribute as needed to meet the final program criteria and guidelines, or to maintain geographic relationships before the tabulation geography is finalized for the 2010 Census.

The Census Bureau will review each statistical AIA and accept it only if it meets the final program criteria. Any decision to reject a particular statistical AIA delineation will be conveyed to the delineating official, and the Census Bureau will work with the delineating official to reach a satisfactory solution.

Interested parties will be able to review and comment on delineated statistical AIA boundaries and names. If a dispute between two or more parties occurs over the boundary delineated for a specific statistical AIA, the Census Bureau encourages the respective parties to reach a mutually acceptable agreement that complies with the final program criteria and follows the final program guidelines. There may be instances in which a mutually acceptable boundary for a statistical AIA cannot be delineated, or the mutually acceptable boundary does not follow the final program criteria. In such instances, when only one of the parties is a tribe, the Census Bureau gives priority to the boundary submitted by the tribal delineating official, in recognition of the government-to-government relationship with the tribe, provided that the delineated statistical AIA meets the final program criteria. If a mutually acceptable statistical AIA that meets the final program criteria is not delineated by the program's deadline, the Census Bureau may, if time and resources allow, independently delineate a statistical AIA.

B. Final Criteria and Guidelines for Tribal Census Tracts and Tribal Block Groups for the 2010 Census

Census tracts are the oldest and one of the most utilized statistical geographic entities for which the Census Bureau tabulates data. The primary purpose of the census tract program is to provide a set of nationally consistent small, statistical geographic units, with stable boundaries that facilitate analysis of data across time. “Standard” census tracts always nest hierarchically within states and counties. “Standard” block groups are subdivisions of standard census tracts. Since there is less concern about the use of block groups for analyzing data across time, block group boundaries may change from one decennial census to another. Block groups always nest hierarchically within standard census tracts, and are the smallest geographic area for which decennial census sample data were provided and for which ACS data will be provided. Standard block groups provide the geographic framework within which the Census Bureau defines and numbers census blocks, with the block group code derived from the first digit in the census block number. For example, block group 1 would contain blocks in the 1000 range; block group 2, blocks within the 2000 range; and so on.

Tribal tracts and tribal block groups are conceptually similar and equivalent to standard census tracts and block groups. They were first defined for Census 2000 to provide meaningful, relevant, and reliable data for small geographic areas within the boundaries of federally recognized AIRs and/or ORTLs. The delineation of tribal tracts and tribal block groups recognizes the unique statistical data needs of federally recognized American Indian tribes. The delineation of tribal tracts and tribal block groups allows for an unambiguous presentation of census tract- and block group-level data specific to an AIR and/or ORTL, without the standard imposition of state or county boundaries, which may artificially separate American Indian populations located within a single AIR and/or ORTL. To this end, tribal tracts and tribal block groups may cross county or state boundaries, or both.

For Census 2000 products in which data were presented by state and county, the standard state/county/census tract hierarchy was maintained, even for territory contained within an AIR and/or ORTL. In such instances, the state/county portions of a tribal census tract were identified as individual census tracts. These standard census tracts may not have met the minimum population or housing unit thresholds, therefore, potentially limiting sample data reliability or availability for both the tribal census tract and the derived standard tracts.

For the 2010 Census, the Census Bureau will identify tribal tracts and tribal block groups as a geographic framework completely separate from, and in addition to, standard census tracts and standard block groups (Figure 1). This change for tribal tracts and tribal block groups for the 2010 Census seeks to eliminate, in part, the data reliability or availability issues associated with the Census 2000 approach, so that for the 2010 Census more census tracts and block groups, both tribal and standard, will meet the population and housing unit thresholds. The separation of these two geographic frameworks will apply to data tabulation products, as well as to geographic information products.

The primary operational benefit of this change for the tribes is that they do not have to work with any other governments or data users in delineating their tribal tracts and tribal block groups. Standard census tracts and standard block groups are delineated by a primary participant in the Participant Statistical Areas Program (PSAP) (usually a regional planning organization or county government agency) for all of the area within their county or counties, with input from a large variety of data users who may represent competing interests. Tribes are encouraged to work with the other PSAP participants for any areas in which they are interested, on and off their AIRs and/or ORTLs, to help define standard census tracts and standard block groups; but the tribal census tract and tribal block group concept allows tribes to receive meaningful data for specific geographic areas within their AIRs and/or ORTLs. The Census Bureau regards tribal tracts and standard census tracts as equivalent in all aspects, and strongly suggests that any programs utilizing census tracts and/or any data tabulated for them should allow for the use of tribal tracts in their programs as well.

For federally recognized American Indian tribes with an AIR and/or ORTL that has more than 2,400 residents or more than 960 housing units, the Census Bureau will offer the tribal government the opportunity to delineate more than one tribal tract and tribal block group on their AIR and/or ORTL. For federally recognized tribes with an AIR and/or ORTL that has fewer than 2,400 residents or 960 housing units, the Census Bureau will define one tribal census tract coextensive with each AIR and/or ORTL. However, federally recognized tribes with an AIR and/or ORTL that has at least 1,200 residents or 480 housing units may still define multiple tribal block groups on their AIR and/or ORTL. For federally recognized tribes with an AIR and/or ORTL that has fewer than 1,200 residents or 480 housing units, the Census Bureau will define one tribal block group coextensive with each AIR and/or ORTL. Tables 1 and 2 provide population and housing unit thresholds for both standard and tribal tracts and block groups.

Table 1—Standard and Tribal Census Tract Thresholds
Tract type | Threshold type | Optimum | Minimum | Maximum
Standard and tribal census tracts | Population threshold Housing Unit threshold | 4,000 1,600 | 1,200 480 | 8,000 3,200

Table 2—Standard and Tribal Block Group Thresholds
Block group type | Threshold type | Minimum | Maximum
Standard and tribal block groups | Population threshold Housing Unit threshold | 600 240 | 3,000 1,200

All tribal tracts and tribal block groups must follow all of the final criteria and guidelines published in the Federal Register for standard census tracts (73 FR 13836-13844) and standard block groups (73 FR 13829-13836), except that they do not have to nest within states or counties. They must instead nest within an individual AIR and/or ORTL, and must be identified uniquely so as to clearly distinguish them from standard census tracts and block groups (see the section on the “Identification of Tribal Census Tracts and Tribal Block Groups for the 2010 Census” below). Because census blocks will be coded within standard block groups, and tribal block groups will be identified uniquely from standard block groups, there will not be a relationship between tribal block group identifiers and census block numbers (although census block numbers will not be duplicated within a tribal block group). Thus, tribal block group “A” might contain census blocks numbered in different “thousand” ranges (e.g., blocks 1001, 2001, and 3001).

Tribal tracts and tribal block groups defined for the 2010 Census will also be used to tabulate data from the ACS. As a general rule, estimates from programs providing sample data, including the ACS, for geographic areas with smaller populations will be subject to higher sampling variances than comparable estimates for areas with larger populations. In addition, the availability and amount of data published for geographic areas with small populations may be reduced compared to that for geographic areas with larger populations. Aiming to create tribal tracts that meet the optimal population of 4,000, and at least maintaining the minimum population threshold of 1,200, will improve the reliability and availability of sample data. PSAP and TSAP participants should consider these factors when defining both tribal and standard census tracts. A similar relationship between the size of population, and reliability and availability of data, applies to tribal block groups and standard block groups. The Census Bureau uses Census 2000 population and housing unit counts to verify that a tribal census tract or tribal block group meets the thresholds; and if the thresholds are not met, the Census Bureau asks for other supporting information, such as tribal or local estimates for the same area.

All tribal tracts and tribal block groups, like all statistical geographic entities, are reviewed by the Census Bureau, compared against the final published criteria and guidelines, and accepted on a case-by-case basis. Population counts should be used in reviewing tribal tracts and tribal block groups. Housing unit counts should be used for seasonal and other unique communities that may have no or low population on Census Day (April 1). Tribal and/or locally produced population and housing unit estimates can be used when reviewing and updating census tracts. The housing unit thresholds are based on a national average of 2.5 persons per housing unit. The Census Bureau recognizes that there are regional variations to this average, and will take this into consideration when reviewing all tribal census tract and tribal block group proposals, if notified. On a case-by-case basis, the Census Bureau may waive the maximum population and housing thresholds, if acceptable, and explanations are submitted.

Identification of Tribal Census Tracts and Tribal Block Groups for the 2010 Census:

a. A tribal census tract code will always begin with a “T” followed by three digits. For example, tribal census tract one on an AIR and/or ORTL will have a code of “T001” for the 2010 Census. Standard census tracts that have the majority of their population, housing units, and/or area included in AIRs and/or ORTLs, will be coded between 9401 and 9499 for the 2010 Census. All other standard census tracts that had a census tract code between 9400 and 9499, for Census 2000, shall be recoded outside of this range for the 2010 Census. Both tribal and standard census tract codes must be unique within each AIR and/or ORTL.

b. A tribal block group will always be designated with a single capital letter from “A” through “K” (except for the letter “I”) for the 2010 Census. Tribal block group identifiers must be unique within each tribal census tract. Census blocks will be numbered uniquely within standard block group, and no relationship will exist between the tribal block group identifier and the number of census blocks contained within. A tribal block group might contain census blocks numbered in different “thousand” ranges (e.g., blocks 1001, 2001, and 3001).

C. Final Criteria and Guidelines for Census Designated Places (CDPs) Defined Within Federally Recognized AIRs, ORTLs, and OTSAs for the 2010 Census

CDPs are statistical geographic entities representing closely settled, unincorporated communities, which are locally recognized and identified by name. They are the statistical equivalents of incorporated places, with the primary differences being the lack of both a legally defined boundary and an active, functioning governmental structure chartered by the state and administered by elected officials. CDPs encompass a concentration of population, housing, and commercial structures that is clearly identifiable by a single name, but is not within an incorporated place. A CDP should have population during at least one entire season (at least three consecutive months) of the year, and have a higher housing unit and/or population density than surrounding areas. A CDP must have some population and/or housing units included, and the Census Bureau asks TSAP and PSAP participants for an explanation if a CDP has less than ten housing units. CDPs cannot be coextensive with an entire AIR, ORTL, OTSA, or any other AIA. CDPs may extend off AIRs, ORTLs, or OTSAs.

CDPs are delineated through both the TSAP and the PSAP for the 2010 Census. Federally recognized tribes with AIRs, ORTLs, or OTSAs may update or delineate new CDPs on those geographic entities through the TSAP. Tribes that would like to delineate CDPs for communities completely off AIRs, ORTLs, and/or OTSAs should work through the PSAP with the primary participants for the areas in which they are interested. Tribes are urged to contact the Regional Census Center responsible for their area of interest, as well as the TSAP and PSAP e-mail lists at geo.tsap.list@census.gov and geo.psap.list@census.gov, respectively, to ensure full participation in the PSAP.

VI. Definitions of Key Terms

Alaska Native area (ANA)—A geographic entity within the State of Alaska that is defined for the collection and tabulation of decennial census data for Alaska Natives. For the 2010 Census, ANAs include Alaska Native Regional Corporations (ANRCs) and Alaska Native Village statistical areas (ANVSAs).

Alaska Native Claims Settlement Act (ANCSA)—Federal legislation (Pub. L. 92-203, 85 Stat. 688 (1971); 43 U.S.C. 1602 et seq. (2000)) enacted in 1971 that recognized Native villages and Native groups, and established ANRCs and their regional boundaries.

Alaska Native Regional Corporation (ANRC)—A corporation created pursuant to the ANCSA as a “Regional Corporation” and organized under the laws of the State of Alaska to conduct both the for-profit and non-profit affairs of Alaska Natives within a defined region of Alaska. For the Census Bureau, ANRCs are considered legal geographic entities. Twelve ANRCs cover the entire State of Alaska except for the area within the Annette Island Reserve (an AIR under the governmental authority of the Metlakatla Indian Community).

Alaska Native village (ANV)—A local governmental unit in Alaska that constitutes an association, band, clan, community, group, tribe, or village recognized by and eligible to receive services from the BIA and/or in accordance with the ANCSA as a Native village or Native group.

Alaska Native village statistical area (ANVSA)—A statistical geographic entity that represents the residences, permanent and/or seasonal, for Alaska Natives who are members of or receiving governmental services from the defining ANV that are located within the region and vicinity of the ANV's historic and/or traditional location. ANVSAs are intended to represent the relatively densely settled portion of each ANV and should include only an area where Alaska Natives, especially members of the defining ANV, represent a significant proportion of the population during at least one season of the year (at least three consecutive months). ANVSAs also should not contain large areas that are primarily unpopulated or do not include concentrations of Alaska Natives, especially members of the defining ANV.

Allotment—Land in the United States allotted to American Indian or Alaska Native adults primarily pursuant to the Dawes Act in the coterminous 48 states or the Native Allotment Act of 1906 (34 Stat. 197, Chapter 2469) in Alaska. A Native allotment can be up to 160 acres in area (.25 of a square mile), and its title is held in either trust (see “Trust land”) or restricted fee status (see “Restricted fee land”). Allotments were either provided from the lands that are or were part of an AIR or from public lands at large, and generally required each applicant to demonstrate use and occupancy of the allotment for at least a five-year period. The Census Bureau only maps and tabulates data specifically for those allotments that are located off an AIR, currently held in trust, associated with a specific tribe and/or AIR, and which have been provided to the Census Bureau with clear, supporting legal documentation.

American Indian—For the purposes of this Notice, any individual who self-identifies as an American Indian and/or an Alaska Native (AIAN) alone or in combination with one or more other races.

American Indian reservation (AIR)—A type of legal geographic entity that is a recognized American Indian land area with a boundary established by final treaty, statute, executive order, and/or court order and over which the tribal government of a federally recognized American Indian tribe (federal AIR) or a state-recognized American Indian tribe (state AIR) has governmental authority. Along with reservation, designations such as colony, pueblo, rancheria, and reserve may apply to AIRs.

Block group—A combination of census blocks that is a subdivision of a census tract. The block group is the lowest level of geography for which the Census Bureau tabulates sample data.

Boundary and Annexation Survey (BAS)—A Census Bureau survey of legal geographic entities that includes counties, incorporated places, micro civil divisions, ANRCs, and federally AIRs and ORTLs. Its purpose is to determine, solely for data collection and tabulation by the Census Bureau, the complete and current inventory and the correct names, legal descriptions, official status, and official boundaries of the legal geographic entities with primary governmental authority over certain lands within the United States as of January 1 of the survey year. The BAS also collects specific information to document the legal actions that established a boundary or imposed a boundary change.

Boundary Validation Program (BVP)—The Census Bureau geographic area program providing tribal leaders a final opportunity to review the Census Bureau's depiction of their AIR and/or ORTL boundaries and provide any corrections to ensure those boundaries are shown correctly as of January 1 of the decennial census year. The BVP occurs after the BAS and prior to tabulation of decennial census data.

Bureau of Indian Affairs (BIA)—The primary agency of the federal government, located within the DOI, charged with the trust responsibility between the federal government and federally recognized AIAN tribal governments and communities, including BIA recognized ANVs.

Bureau of Land Management—The primary agency of the federal government, located within the DOI, charged with carrying out the ANCSA.

Census designated place (CDP)—A statistical geographic entity encompassing a concentration of population, housing, and commercial structures that is clearly identifiable by a single name, but is not within an incorporated place. CDPs are the statistical counterparts of incorporated places for distinct unincorporated communities.

Census tract—a combination of census block groups that is a subdivision of a county or AIR.

Contiguous—A description of a geographic entity having an uninterrupted outer boundary such that it forms a single, connected piece of territory. Noncontiguous areas form separate, disconnected pieces.

Federal AIR—A type of legal geographic entity that is a recognized American Indian land area with a boundary established by final treaty, statute, executive order, and/or court order, and over which the tribal government of a federally recognized American Indian tribe has governmental authority. Along with reservation, designations such as colony, pueblo, rancheria, and reserve may apply to AIRs.

Federal recognition or federally recognized—refers to the recognition by the Secretary of the Interior that an American Indian tribe has a government-to-government relationship with the United States, and is eligible for the special programs and services provided by the United States to American Indians because of their status as American Indians, and evidenced by inclusion of the tribe on the list of recognized tribes published by the Secretary under 25 U.S.C. 479a-1 (last published in the Federal Register on Friday, April 4, 2008 (73 FR 18553—18557)).

Fee land—Area owned in fee simple status (total ownership, not in trust) by a tribe recognized by the federal government or individual members of a tribe. A tribe or an individual holds the title to such land. Tracts and/or parcels of such land can be alienated or encumbered by the owner without the approval of the Secretary of the Interior or his/her authorized representative. This type of land may be located on or off a federally recognized AIR. The Census Bureau does not identify fee land (or land in fee simple status) as a specific geographic category.

Fee simple land (or land in fee simple status)—Area owned in fee simple status (total ownership, not in trust or restricted) by a tribe or AIAN individuals. A tribe or an individual holds the title to such land. Tracts and/or parcels of such land can be alienated or encumbered by the owner without the approval of the Secretary of the Interior or his/her authorized representative. This type of land may be located on or off an AIR. The Census Bureau does not identify fee land as a specific geographic category.

Geographic entity—Once a geographic area is recognized and incorporated into the Census Bureau geographic universe as a discrete areal unit, it is be referred to as a “geographic entity.”

Geographic Names Information System (GNIS)—The GNIS is the federal standard for geographic nomenclature. The U.S. Geological Survey developed the GNIS for the U.S. Board on Geographic Names as the official repository of domestic geographic names data; the official vehicle for geographic names used by all departments of the federal government; and the source for applying geographic names to federal electronic and printed products. The GNIS is available online at http://geonames.usgs.gov/domestic/index.html.

Historic Areas of Oklahoma—A geographic area established by the Census Bureau for the 1980 Census that encompassed the former AIRs that had legally established boundaries during the period 1890 through 1907, but whose lands were divided by allotment agreements during the period preceding the establishment of Oklahoma as a state in 1907. The Historic Areas of Oklahoma excluded all territory that was in the Census Bureau's 1980 urbanized areas. The 1980 Census tabulated data for this single entity, which was replaced for the 1990 Census by the designation TJSAs, reflecting, in general, a presentation of the data by individual former AIRs. The TJSAs defined for the 1990 Census included territory without regard to urbanized areas.

Incorporated place—A legal geographic entity that is a governmental unit, incorporated under state law as a city, town (except in New England, New York, and Wisconsin), borough (except in Alaska and New York), or village, to provide governmental services for a concentration of people within a legally defined boundary.

Joint use area—The term, as applied to any AIA by the Census Bureau, means that the area is administered jointly and/or claimed by two or more American Indian tribes. The Census Bureau designates both legal and statistical joint use areas as unique geographic entities for the purpose of presenting statistical data. In no way does this designation confer or imply any legal ownership or authority in the area, but merely describes the relationship between the tribes and the area.

Legal geographic entity—A geographically defined governmental, administrative, or corporate entity whose origin, boundary, name, and description result from charters, laws, treaties, or other governmental action. Examples are: the United States; states and statistically equivalent entities; counties and statistically equivalent entities; minor civil divisions; incorporated places; congressional districts; AIRs and ORTLs; school districts; and ANRCs. The legal geographic entities that will be recognized for the 2010 Census are those in existence on January 1, 2010.

Nonvisible feature—A map feature that is not visible from the ground, such as an incorporated place, county, AIR, ORTL, or ANRC boundary through space, a property line, or line-of-sight extension of a road.

Off-Reservation Trust Land (ORTL)—A type of legal geographic entity that is a recognized American Indian land area for which the United States federal government holds fee title in trust for the benefit of a tribe (tribal trust land) or for an individual American Indian (individual trust land). Trust lands can be alienated or encumbered only by the owner with the approval of the Secretary of the Interior or his/her authorized representative. Trust lands may be located on (on-reservation trust land) or off an AIR. The Census Bureau recognizes and tabulates data for AIRs and ORTLs because the tribe has governmental authority over these lands. Primary tribal governmental authority generally is not attached to tribal lands located off the AIR until the lands are placed in trust. In Census Bureau data tabulations, ORTLs are always associated with a specific federal AIR and/or tribal government.

Oklahoma tribal statistical area (OTSA)—A statistical entity identified and delineated by the Census Bureau in consultation with federally recognized American Indian tribes that have no current AIR, but that had a former AIR in Oklahoma. The boundary of an OTSA will be that of the former AIR in Oklahoma, except where modified by agreements with neighboring tribes for statistical data presentation purposes. For Census 2000, the term OTSA replaced the 1990 Census term—tribal jurisdiction statistical area (TJSA).

Restricted fee land—A land area for which an individual American Indian or a tribe holds fee simple title subject to limitations or restrictions against alienation or encumbrances as set forth in the title and/or by operation of law. Restricted fee lands may be located on or off a federally recognized reservation. The majority of restricted fee land is located in Oklahoma or Alaska. The Census Bureau does not identify restricted fee lands as a specific geographic category.

State AIR—A type of legal geographic entity that is a recognized American Indian land area with a boundary established by final treaty, statute, executive order, and/or court order, and over which the tribal government of a state-recognized American Indian tribe has governmental authority. A governor-appointed state liaison provides the name and boundary for each state-recognized AIR to the Census Bureau.

State-designated American Indian statistical area (SDAISA)—A statistical geographic entity developed for Census 2000, now called SDTSAs (see SDTSAs for more information).

State-designated tribal statistical area (SDTSA)—A statistical geographic entity identified and delineated for the Census Bureau by a governor-appointed state liaison, working in conjunction with tribal officials for a state-recognized tribe that does not currently have an AIR and/or ORTL. A SDTSA is intended to be comparable to the AIRs within the same state or region, especially those for tribes that are of similar size. A SDTSA encompasses a compact and contiguous area that contains a concentration of individuals who identify with the state-recognized tribe and within which there is structured and organized tribal activity. Referred to as state-designated American Indian statistical areas (SDAISAs) in Census 2000.

State recognition or state-recognized—Refers to American Indian tribes and associated geographic areas that are specifically recognized by a state government through treaty (generally with one of the original thirteen colonial assemblies and/or Great Britain), state legislation, or other formal process. State recognition of a tribe is determined by each respective state government, and conveyed to the Census Bureau by the governor's appointed liaison.

Statistical geographic entity or statistical area—A geographic entity specifically defined for the collection and/or tabulation of statistical data from the Census Bureau. Statistical entities are not generally established by law and their designation by the Census Bureau neither conveys nor confers legal ownership, entitlement, jurisdiction, or governmental authority. Tribal statistical geographic entities include ANVSAs, OTSAs, TDSAs, and SDTSAs, among others.

Surface estate—That portion of the interest, ownership, or property in land that resides on the earth's surface, as distinguished from the subsurface estate (for example, mineral rights). The Census Bureau collects the boundaries of ORTLs where the surface estate is held in trust; it does not collect the boundaries where only the subsurface estate is held in trust.

Tribal block group—Block groups defined on AIRs and ORTL that are separate from, and in addition to, standard state/county/census tract hierarchy block groups, maintained and presented within the Census Bureau's American Indian geographic hierarchy, and are defined through the TSAP by tribal primary participants. These are in all respects the functional and programmatic equivalent to standard block groups and should be treated as such. They were developed to further enhance the data available for federally recognized American Indian tribes with an AIR or ORTL. (See also Block group)

Tribal census tracts (tribal tracts)—Census tracts defined on AIRs and ORTL that are separate from, and in addition to, standard state/county hierarchy census tracts, maintained and presented within the Census Bureau's American Indian geographic hierarchy, and are defined through the TSAP by tribal primary participants. These are in all respects the functional and programmatic equivalent to standard census tracts and should be treated as such. They were developed to further enhance the data available for federally recognized American Indian tribes with an AIR or ORTL. (See also Census tract)

Tribal-designated statistical area (TDSA)—A statistical geographic entity identified and delineated for the Census Bureau by a federally recognized American Indian tribe that does not currently have an AIR and/or ORTL. A TDSA is intended to be comparable to the AIRs within the same state or region, especially those for tribes that are of similar size. A TDSA encompasses a compact and contiguous area that contains a concentration of individuals who identify with the delineating federally recognized American Indian tribe, and within which there is structured and organized tribal activity. Although two TDSAs were delineated within Alaska for Census 2000, TDSAs will not be delineated within Alaska for the 2010 Census. All ANVs eligible to delineate TDSAs within Alaska for Census 2000 are eligible consider delineating an ANVSA within Alaska for the 2010 Census.

Tribal jurisdiction statistical area (TJSA)—A statistical entity identified and delineated for the 1990 Census to provide a geographic frame of reference for the presentation of statistical data. TJSA boundaries were required to follow census block boundaries and were based upon the boundaries of the former AIRs of federally recognized tribes in Oklahoma. The 1990 Census TJSAs essentially were defined in the same manner as planned for the OTSAs in Census 2000; the descriptive designation is being changed for Census 2000 to correct the impression that these statistical entities conveyed or conferred any jurisdictional authority.

Tribal Statistical Areas Program (TSAP)—New for the 2010 Census, the TSAP is intended to consolidate the various AIAN statistical geographic entities into one program. New delineations, updates, and re-delineations of the various tribal statistical geographic entities, including ANVSAs, tribal tracts, and tribal block groups, will all be processed through the TSAP.

Tribal subdivision—An administrative subdivision of a federally recognized AIR, ORTs, or OTSA; variously known as chapters, communities, or districts. These entities are internal units of self-government or administration that serve social, cultural, and/or economic purposes for the American Indians on the AIR, ORTLs, or OTSAs.

Visible feature—A map feature that can be seen on the ground such as a road, railroad track, major aboveground transmission line or pipeline, river, stream, shoreline, fence, sharply defined mountain ridge, or cliff. Nonstandard visible features are a subset of visible features that may not be clearly defined on the ground (such as a ridge), may be seasonal (such as an intermittent stream), or may be relatively impermanent (such as a fence). The Census Bureau generally requests verification that a nonstandard visible feature used as a boundary for a statistical geographic entity poses no problem for census enumerators in locating it during fieldwork.

Executive Order 12866

This Notice has been determined to be not significant under Executive Order 12866.

Paperwork Reduction Act

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 35, the Census Bureau requested, and the OMB granted its clearance for the information collection requirements for geographic partnership programs on September 24, 2008 (OMB Control Number 0607-0795, expires on March 31, 2009). The Census Bureau's request for an extension of this clearance until March 31, 2009, was sent to the OMB on September 9, 2008.

Dated: November 7, 2008.
Steve H. Murdock,
Director, Bureau of the Census.

[FR Doc. E8-27119 Filed 11-13-08; 8:45 am]

BILLING CODE 3510-07-P